DEPARTMENT OF ENERGY

Federal Energy Regulatory Commission

[Docket No. QF06-239-000]

Sara Lee Bakery Goods; Notice of Filing of Self-Certification of Qualifying Status of Cogeneration Facility

January 11, 2007.

Take notice that on May 19, 2006, as completed on December 22, 2006, Sara Lee Bakery Goods filed a notice of self-certification of qualifying status of a cogeneration facility, pursuant to 18 CFR 292.207(a) of the Commission's regulations.

Take notice that on December 26, 2006, Sara Lee Bakery Goods, 110 Sara Lee Road, Tarboro, NC 27886 filed with the Federal Energy Regulatory Commission a notice of self-certification of a facility as a qualifying cogeneration facility pursuant to 18 CFR 292.207(a) of the Commission's regulations.

This qualifying cogeneration facility consists of an 1825 kW packaged diesel engine generator set operating on #2 fuel oil. The package is set on concrete pads. The unit is self-contained, including all necessary switchgear and controls. The electricity is generated at 480 V, 3 phase, 60 Hz. The facility is located at 110 Sara Lee Road, Tarboro, NC 27886.

This qualifying facility interconnects with the Town of Tarboro's electric distribution system. The facility will provide standby power and occasionally supplementary power to Sara Lee Bakery Goods.

A notice of self-certification does not institute a proceeding regarding qualifying facility status; a notice of self-certification provides notice that the entity making filing has determined the Facility meets the applicable criteria to be a qualifying facility. Any person seeking to challenge such qualifying facility status may do so by filing a motion pursuant to 18 CFR 292.207(d)(iii).

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E7-665 Filed 1-18-07; 8:45 am]

BILLING CODE 6717-01-P